DEPARTMENT OF DEFENSE

Department of the Army, Corps of Engineers

Availability of a Draft Integrated Feasibility Report (Feasibility Report/Environmental Impact Statement), Aliso Creek Mainstem Ecosystem Restoration Study, Orange County, California

AGENCY: Department of the Army, U.S. Army Corps of Engineers, DoD.

ACTION: Notice; extension of comment period.

SUMMARY: The comment period for the Availability of a Draft Integrated Feasibility Report (Feasibility Report/Environmental Impact Statement), Aliso Creek Mainstem Ecosystem Restoration Study, Orange County, CA published in the Federal Register on Friday, September 29, 2017 and required comments be submitted by November 13, 2017. The comment period has been extended to November 28, 2017.

FOR FURTHER INFORMATION CONTACT: Ms. Deborah Lamb, U.S. Army Corps of Engineers, Los Angeles District, phone number (213) 452-3798.

SUPPLEMENTARY INFORMATION: None.

Brenda S. Bowen,
Army Federal Register Liaison Officer.

[FR Doc. 2017-23154 Filed 10-24-17; 8:45 am]

BILLING CODE 3720-58-P